SMALL BUSINESS ADMINISTRATION

13 CFR Part 107

RIN 3245-AI14

Small Business Investment Company (SBIC) Regulatory Amendments

AGENCY: U. S. Small Business Administration.

ACTION: Final rule; correction.

SUMMARY: The U.S. Small Business Administration (“SBA” or “Agency”) is correcting a final rule that appeared in the Federal Register on January 2, 2026. The document revised regulations for the Small Business Investment Company (“SBIC”) program to modify or remove from the Code of Federal Regulations (“CFR”) regulations that are obsolete, inefficient, or otherwise unnecessarily impede the licensing of small business investment companies (“SBICs”) and to remove certain barriers to investments in critical mineral extraction and processing and designated critical technologies.

DATES: Effective February 2, 2026.

FOR FURTHER INFORMATION CONTACT: Paul Van Eyl, Director of Financial Policy, Office of Investment and Innovation, U.S. Small Business Administration, oii.policy@sba.gov, 202-257-5955. This phone number can also be reached by individuals who are deaf or hard of hearing, or who have speech disabilities, through the Federal Communications Commission's TTY-Based Telecommunications Relay Service teletype service at 711.

SUPPLEMENTARY INFORMATION: In FR 2025-24232 appearing on page 8 in the Federal Register of Monday, January 2, 2026, the following corrections are made:

§ 107.1700 [Corrected]

1. On page 9, in the first column, in part 30, instruction 30, “Amend § 107.1700 by revising the first to read as follows:” is corrected to read “Amend § 107.1700 by revising the first sentence to read as follows:”

§ 107.1820 [Corrected]

2. On page 9, in the second column, amendment 33 is corrected to read as “Amend § 107.1820 by revising paragraphs (a) and (d)(9) to read as follows:”

Paul Van Eyl,
Director of Financial Policy.

[FR Doc. 2026-00173 Filed 1-7-26; 8:45 am]

BILLING CODE 8026-09-P